OFFICE OF MANAGEMENT AND BUDGET

Statistical Policy Directive No. 10 Standard Occupational Classification (SOC)—Request for Comments on Possible Revision for 2028

AGENCY: Office of Information and Regulatory Affairs, Office of Management and Budget, Executive Office of the President.

ACTION: Notice of solicitation of comments to revise the SOC for 2028.

SUMMARY: The Office of Management and Budget (OMB), on behalf of the Standard Occupational Classification Policy Committee (SOCPC), announces the review of the 2018 Standard Occupational Classification (SOC) Manual for potential revisions to be made for 2028 and solicits public comment. This review and possible revision of the 2018 SOC is intended to be completed by the beginning of 2027 and then released to begin use in reference year 2028. Details about these topics are available in the SUPPLEMENTARY INFORMATION section below.

DATES: To ensure consideration of comments on this notice, they must be received no later than August 12, 2024. Because of delays in the receipt of regular mail related to security screening, respondents are encouraged to send comments electronically (see ADDRESSES, below).

ADDRESSES: Submit comments through https://www.regulations.gov—a Federal E-Government website that allows the public to find, review, and submit comments on documents that agencies have published in the Federal Register and that are open for comment. Enter “BLS-2024-0001” (in quotes) in the Comment or Submission search box, click Go, and follow the instructions for submitting comments. Comments received by the date specified above will be included as part of the official record. Please include the Docket ID (BLS-2024-0001) and the phrase “Standard Occupation Classification (SOC)—Updates for 2028” at the beginning of your comments. Please also indicate which Standard Occupation Classification Policy Committee (SOCPC) recommendations described in the SUPPLEMENTARY INFORMATION of this notice are addressed in your comments.

Privacy Act Statement: OMB is issuing this request for comments pursuant to its authority to oversee the Federal statistical system under 44 U.S.C. 3504(e). Submission of comments in response to this notice is voluntary. Information you provide will be used to inform sound decision making regarding potential updates to the SOC. Please note that all submissions received in response to this notice may be posted on https://www.regulations.gov/ or otherwise released in their entirety, including any personal and business confidential information provided. Do not include in your submissions any copyrighted material; information of a confidential nature, such as personal or proprietary information; or any information you would not like to be made publicly available. The OMB System of Records Notice, OMB Public Input System of Records, OMB/INPUT/01, 88 FR 20913 (https://www.federalregister.gov/documents/2023/04/07/2023-07452/privacy-act-of-1974-system-of-records/), includes a list of routine uses associated with the collection of this information.

Electronic availability. Federal Register notices are available electronically at https://www.federalregister.gov/. This document is also available on the SOC website at https://www.bls.gov/soc. The SOC website contains information on the purpose, background, and structure of the SOC, as well as additional guidance and formats on providing input to the Standard Occupational Classification Policy Committee (SOCPC) for consideration by OMB during the SOC revision for 2028.

FOR FURTHER INFORMATION CONTACT: For information about this request for comments, contact Jeongsoo Kim, Office of Management and Budget, New Executive Office Building, Washington, DC 20503; email: Statistical_Directives@omb.eop.gov; telephone number: (202) 395-1613; fax number: (202) 395-5898.

The SOC coordination team may be reached by email at soc@bls.gov. Please note: Communication through this email will not be included in the record for BLS-2024-0001. Comments should be submitted through https://www.regulations.gov, as described in the ADDRESSES section above.

SUPPLEMENTARY INFORMATION: Pursuant to its authority under 44 U.S.C. 3504(e), the Office of Management and Budget (OMB) announces the review of the 2018 SOC Manual for possible revision in 2028 and solicits public comment on the following topics: intention to retain the 2018 SOC Classification Principles; the intention to retain the 2018 SOC Coding Guidelines; the intention to retain the 2018 SOC Major Group Structure; whether to develop definitions for major occupation groups; whether to consider changes to, or consolidation of, selected 2018 SOC detailed occupations, including specifically public safety telecommunicators and whether production occupations should be combined based on common job duties; whether to consider the addition of new detailed occupations or occupational groups, including specifically care workers; possible changes to major, minor, and broad occupation groups; possible changes to the STEM (Science, Technology, Engineering, and Math) occupation framework and its domains; and uses and applications of the SOC. The SOC classifies all occupations for which work is performed for pay or profit. It is designed to cover all jobs in the national economy, including occupations in the public, private, and military sectors. In this way, the SOC is designed to reflect the current occupational composition of the United States. The SOC supports efficiency and effectiveness of the U.S. Federal statistical system by providing a standard for occupation-based statistical data classification, thereby ensuring comparability of these data across Federal statistical agencies. Accordingly, all Federal agencies that publish occupational data for statistical purposes are required to use the SOC. State and local government agencies are also strongly encouraged to use this national system to promote a common language for categorizing and analyzing occupations. Consistent with good statistical practice, these classifications are reviewed and revised periodically to ensure statistical robustness, relevance, accuracy, and comparability of occupational data produced for statistical purposes. This is the first Federal Register Notice requesting public comment in the process leading up to the potential 2028 SOC revision. More information on the SOC, including information on past revision processes, is available at https://www.bls.gov/SOC.

Purpose and History of the SOC

The U.S. Federal statistical system is decentralized, with 16 OMB-recognized statistical agencies and units that have data collection as their primary mission and over 100 other agencies that collect statistical data, along with carrying out another primary mission. The Chief Statistician of the United States at OMB coordinates the Federal statistical system by developing and overseeing the implementation of Government-wide principles, policies, standards, and guidelines concerning the presentation and dissemination of statistical information. These coordination efforts promote the efficiency and effectiveness of the Federal statistical system. More information on the Federal statistical system, including its structure and policies that govern it, is available at https://www.statspolicy.gov/.

One such standard for statistical data classification established by OMB is Statistical Policy Directive No. 10: Standard Occupational Classification (SOC), which ensures consistency and comparability of occupation-based statistical data classification across Federal statistical activities. All Federal agencies that publish occupational data for statistical purposes are required to use the SOC to increase data comparability (and thus, data utility) across Federal programs. Information about occupations—employment levels, trends, pay and benefits, demographic characteristics, skills required, and many other items—is widely used by individuals, businesses, researchers, educators, and public policy-makers. The SOC helps ensure that occupational data produced across the Federal statistical system are comparable and can be used together in analysis.

The SOC is designed exclusively for statistical purposes. Although the SOC may also be used for various nonstatistical purposes (e.g., for administrative, regulatory, or taxation functions), the requirements of government agencies, businesses, or private users that choose to use the SOC for non-statistical purposes play no role in the development or revision of the SOC. The appropriateness of using the SOC for non-statistical purposes must be evaluated on a case-by-case basis.

To reflect changes in the economy and in the nature of work, revision of the SOC is considered periodically. The SOC was first issued in 1977, with subsequent revisions in 1980, 2000, 2010, and 2018. Although the 1980 SOC was the basis for the occupational classification system used in the Census of Population and Housing in 1980 and 1990, neither the 1977 nor the 1980 SOC was widely used by the Federal statistical system in producing data. However, with the implementation of the 2000 SOC, for the first time OMB required that all major occupational data produced by the Federal statistical system use the SOC, which greatly improved the utility of the data by improving comparability. The 2010 and 2018 SOC revisions improved comparability and maintained currency. Both the 2010 and 2018 SOC revisions were accompanied by new explanatory and implementation resources; namely, the Coding Guidelines and the Direct Match Title File, to both help data collectors code occupations more consistently, and help data users better understand how occupations are classified. For more information, see the SOC website at https://www.bls.gov/soc/.

Role of the SOC Policy Committee

The SOC Policy Committee (SOCPC), a standing committee established by OMB in 2005, is charged with carrying out the review of the SOC for 2028, including making recommendations to the Chief Statistician of the United States at OMB for possible revisions for 2028. Currently, the SOCPC is comprised of representatives from 18 Federal agencies and components.

Review of the 2018 SOC and Request for Comments on Possible Revisions for 2028

OMB has charged the SOCPC with the review of the 2018 SOC for possible recommendations for revision for 2028. Given the multiple interdependent programs that rely on the SOC, coordinating the revisions of the SOC with these programs is best accomplished by timing revisions of the SOC for the year following North American Industry Classification System (NAICS) revisions. The next such year is 2028, and OMB plans to review for possible revision every 10 years thereafter. This is the first opportunity for public comment in the process, and OMB expects there to be a second opportunity for public comment as part of the process prior to OMB announcing its final decisions.

The SOCPC began focusing on the possible recommendations for revision for 2028 in December 2023 and has identified the following topics and intentions as specific areas for public comment in addition to any aspect of occupational classification. To facilitate the work of the SOCPC, OMB, on behalf of the SOCPC, solicits and welcomes comments related to any aspect of occupational classification, especially comments concerning the following items, some of which are described in more detail below:

• the intention to retain the 2018 SOC Classification Principles;

• the intention to retain the 2018 SOC Coding Guidelines;

• the intention to retain the 2018 SOC Major Group Structure;

• whether to develop definitions for major occupation groups;

• whether to consider changes to, or consolidation of, selected 2018 SOC detailed occupations, including specifically the classification of public safety telecommunicators and whether production occupations should be combined based on common job duties;

• whether to consider the addition of new detailed occupations or occupational groups, including specifically care workers;

• possible changes to major, minor, and broad occupation groups;

• possible changes to the STEM occupation framework and its domains; and

• uses and applications of the SOC.

Job Versus Occupation

One key concept to help the public understand the philosophy behind the SOC classification philosophy is that the terms “jobs” and “occupations” do not necessarily refer to the same concept. In many cases, job titles intrinsically represent jobs, rather than true occupations as defined in the SOC. Specifically, a job is a set of work activities performed by an individual. The exact set of activities varies depending on the size and organization of the establishment and is often, but not always, unique to that individual worker. An occupation is a grouping of a number of individual jobs, where everyone performs certain tasks that provide a natural grouping used to define the occupation. Thus, an occupational definition is a collective description of a number of similar individual jobs performed, with minor variations, in different establishments. Occupational classification schemes such as the SOC organize millions of jobs into discrete occupations based on common tasks as determined by the schemes' classification principles. For example, in the 2018 SOC, workers with the job title `Coronary Care Unit Staff Nurse' are classified in the occupation Registered Nurses (29-1141). Likewise, workers with the job title `Automotive Fuel Injection Servicer' are classified in the occupation Automotive Service Technicians and Mechanics (49-3023).

The Intention To Retain the 2018 SOC Classification Principles

The SOC Classification Principles form the basis on which the SOC is structured and provide a foundation for classification decisions. As noted above, in the first few meetings of the SOCPC on the possible revision for 2028, the SOCPC identified that it would prefer to retain as is the 2018 SOC Classification Principles (listed below) and seeks input from the public on whether these Principles should be retained as-is or modified in some manner. The SOCPC welcomes suggestions from the public on any aspect of these Principles.

The proposed Classification Principles for use in the 2028 SOC are identical to those used for the 2018 SOC and are as follows:

1. The SOC covers all occupations in which work is performed for pay or profit, including work performed in family-operated enterprises by family members who are not directly compensated. It excludes occupations unique to volunteers. Each occupation is assigned to only one occupational category at the most detailed level of the classification.

2. Occupations are classified based on work performed and, in some cases, on the skills, education or training needed to perform the work.

3. Workers primarily engaged in planning and the directing of resources are classified in management occupations in Major Group 11-0000. Duties of these workers may include supervision.

4. Supervisors of workers in Major Groups 13-0000 through 29-0000 usually have work experience and perform activities similar to those of the workers they supervise, and therefore are classified with the workers they supervise.

5. Workers in Major Group 31-0000 Healthcare Support Occupations assist and are usually supervised by workers in Major Group 29-0000 Healthcare Practitioners and Technical Occupations, and therefore there are no first-line supervisor occupations in Major Group 31-0000.

6. Workers in Major Groups 33-0000 through 53-0000 whose primary duty is supervising are classified in the appropriate first-line supervisor category because their work activities are distinct from those of the workers they supervise.

7. Apprentices and trainees are classified with the occupations for which they are being trained, while helpers and aides are classified separately because they are not in training for the occupation they are helping.

8. If an occupation is not included as a distinct detailed occupation in the structure, it is classified in an appropriate “All Other” occupation. “All Other” occupations are placed in the structure when it is determined that the detailed occupations comprising a broad occupation group do not account for all of the workers in the group, even though such workers may perform a distinct set of work activities. These occupations appear as the last occupation in the group with a code ending in “9” and are identified in their title by having “All Other” appear at the end.

9. The U.S. Bureau of Labor Statistics and the U.S. Census Bureau are charged with collecting and reporting data on total U.S. employment across the full spectrum of SOC major groups. Thus, for a detailed occupation to be included in the SOC, either the Bureau of Labor Statistics or the Census Bureau must be able to collect and report data on that occupation.

10. To maximize the comparability of data, time series continuity is maintained to the extent possible.

The Intention To Retain the 2018 SOC Coding Guidelines

The SOC Coding Guidelines are intended to assist users when assigning SOC codes and titles to survey responses, and in other coding activities. The SOCPC proposes to retain as is the 2018 SOC Coding Guidelines (listed below) and seeks input from the public on whether these Guidelines should be retained as-is or modified in some manner. The SOCPC welcomes suggestions from the public on any aspects of the Guidelines;

The proposed Coding Guidelines for use in the 2028 SOC are identical to those used for the 2018 SOC and are as follows:

1. A worker should be assigned to an SOC occupation code based on work performed.

2. When workers in a single job could be coded in more than one occupation, they should be coded in the occupation that requires the highest level of skill. If there is no measurable difference in skill requirements, workers should be coded in the occupation in which they spend the most time. Workers whose job is to teach at different levels (e.g., elementary, middle, or secondary) should be coded in the occupation corresponding to the highest educational level they teach.

3. Data collection and reporting agencies should assign workers to the most detailed occupation possible. Different agencies may use different levels of aggregation, depending on their ability to collect data.

4. Workers who perform activities not described in any distinct detailed occupation in the SOC structure should be coded in an appropriate “All Other” or residual occupation. These residual occupational categories appear as the last occupation in a group with a code ending in “9” and are identified by having the words “All Other” appear at the end of the title.

5. Workers in Major Groups 33-0000 through 53-0000 who spend 80 percent or more of their time performing supervisory activities are coded in the appropriate first-line supervisor category in the SOC. In these same Major Groups (33-0000 through 53-0000), persons with supervisory duties who spend less than 80 percent of their time supervising are coded with the workers they supervise.

6. Licensed and non-licensed workers performing the same work should be coded together in the same detailed occupation, except where specified otherwise in the SOC definition.

The Intention To Retain the 2018 SOC Major Group Structure

The 2018 SOC classifies workers at four levels of aggregation: (1) Major Group; (2) Minor Group; (3) Broad Occupation; and (4) Detailed Occupation. In order to ensure consistency and satisfy a strong user preference for time series continuity in occupational employment and wage data, the SOCPC proposes to retain as is the current Major Groups from the 2018 SOC and seeks input from the public on whether these Major Groups should be retained as-is or modified in some manner. The SOCPC welcomes suggestions from the public on any aspects of the Major Groups, including proposals to update the titles of any of the Major Groups to reflect current terminology.

All occupations are clustered into one of the following 23 Major Groups in the 2018 SOC:

11-0000 Management Occupations

13-0000 Business and Financial Operations Occupations

15-0000 Computer and Mathematical Occupations

17-0000 Architecture and Engineering Occupations

19-0000 Life, Physical, and Social Science Occupations

21-0000 Community and Social Service Occupations

23-0000 Legal Occupations

25-0000 Educational Instruction and Library Occupations

27-0000 Arts, Design, Entertainment, Sports, and Media Occupations

29-0000 Healthcare Practitioners and Technical Occupations

31-0000 Healthcare Support Occupations

33-0000 Protective Service Occupations

35-0000 Food Preparation and Serving Related Occupations

37-0000 Building and Grounds Cleaning and Maintenance Occupations

39-0000 Personal Care and Service Occupations

41-0000 Sales and Related Occupations

43-0000 Office and Administrative Support Occupations

45-0000 Farming, Fishing, and Forestry Occupations

47-0000 Construction and Extraction Occupations

49-0000 Installation, Maintenance, and Repair Occupations

51-0000 Production Occupations

53-0000 Transportation and Material Moving Occupations

55-0000 Military Specific Occupations

Proposals From the Public for Changes to Existing 2018 SOC Detailed Occupations

Generally, the definitions for SOC detailed occupations contain the minimum description needed to determine which workers would be classified in a particular occupation. Comments are welcome on corrections concerning typographical or definitional errors and other changes to the existing detailed occupations, including the combination of occupations. Suggested changes to existing detailed occupations may address the occupational title, definition, or its placement in the structure. In particular, comments are welcome on public safety telecommunicators and care worker occupations. OMB charged the SOCPC specifically with reviewing the classification for public safety telecommunicators and with assessing a possible new occupation for care workers because these two areas have been raised to OMB by Congress over the years since the issuance of the 2018 SOC.

In addition, each SOC occupation has one or more Illustrative Examples, drawn from the Direct Match Title File, referenced above. Comments are invited on Illustrative Examples or Direct Match Titles that should be added, moved, or deleted.

Detailed information on the purpose, structure, and the components of SOC definitions is available on the Bureau of Labor Statistics (BLS) SOC website at https://www.bls.gov/soc. For a description of the elements of an SOC definition, please see “Revising the Standard Occupational Classification” available at https://www.bls.gov/soc/revising_the_standard_occupational_classification_2028.pdf. In particular, Figure 1 (copied below) and the accompanying text in that document describe the elements of a detailed SOC occupation. Additional guidance on the type of information that the SOCPC will find critical in making recommendations to OMB appears in the section “Public Input Requested” below.

Proposals From the Public for New Detailed Occupations

The SOCPC also invites proposals for new detailed occupations or the splitting of occupations, as warranted by changes in the economy, technology, or business practices that affect how employers structure work. Suggestions should be guided by the Classification Principles, above. In particular, suggestions should specifically address Classification Principles 2, 9, and 10, as discussed below.

Classification Principle 2 dictates that the nature of the work performed is the main criterion for classifying a detailed occupation and determining where to place it in the structure. Thus, the SOCPC needs specific information describing the work performed by workers in the occupation, such as specific duties and tasks. This information is useful in evaluating whether the work performed in a recommended new occupation is sufficiently different from work performed in existing occupations and to determine where in the classification structure a new occupation should be placed. As noted in Classification Principle 2, skills, education, or training are occasionally used to guide the classification decisions; primarily, however, classification decisions are based on the nature of the work performed.

Classification Principle 9 pertains to collectability and reportability—that is, whether data can actually be collected and reported on the occupation. For a detailed occupation to be included in the SOC, either BLS or the Census Bureau must be able to obtain information from households or employers that will allow accurate classification of the workers.

Collectability and reportability are partly a function of the size of the occupation—the occupation must be large enough to be detected in sample household or business surveys. However, the SOCPC will not use a specific employment size cut-off to determine its recommendations to OMB. This is because small occupations that are concentrated in certain industries or geographic areas may be collectable and reportable, while occupations of similar or larger employment that are spread throughout the economy may not be collectable and reportable. Therefore, size is not the only consideration in collectability and reportability. Collectability and reportability are also related to the type of data collection used, specifically the comprehensive household and business surveys conducted by BLS and the Census Bureau. For more information on the considerations for collectability and reportability, see “Revising the Standard Occupational Classification” available at https://www.bls.gov/soc/revising_the_standard_occupational_classification_2028.pdf (“Revising the Standard Occupational Classification,” May 2024, SOC Coordinating Team, Bureau of Labor Statistics).

Classification Principle 10 relates to time series continuity—that is, the ability to maintain data series over time without interruption due to classification changes. To maintain the utility of the SOC, the SOCPC's recommendations to OMB will reflect the importance of maintaining time series continuity. To the extent possible, new occupations proposed for the 2028 SOC should be easily cross-referenced to the 2018 SOC.

STEM Proposed Framework and Classifications

In order to enhance comparability of data across statistical agencies and organizations studying the STEM (Science, Technology, Engineering, and Mathematics) workforce for policymaking purposes, including educational and workforce planners, OMB requested the SOCPC to recommend options for defining STEM occupations. The SOCPC has created a recommended framework for identifying and grouping occupations in the STEM fields as described here https://www.bls.gov/soc/attachment_a_stem_2018.pdf (“Options for defining STEM (Science, Technology, Engineering, and Mathematics) occupations under the 2018 Standard Occupational Classification (SOC) system,” June 2019, SOLC Policy Committee, Bureau of Labor Statistics). The resulting categories and content are available here https://www.bls.gov/soc/Attachment_B_STEM_2018.pdf (“STEM definition options,” June 2019, SOC Policy Committee, Bureau of Labor Statistics). The current framework gives users options for defining STEM occupations, while also allowing for comparison across agencies and organizations. The SOCPC is seeking comment on the framework, the content of each category, and whether the STEM categories should become part of the SOC.

General Recommendations for Providing SOC Comments

The SOCPC will use the public comments in response to this and related Federal Register notices, as well as its own research, to develop recommendations for revisions to the SOC to OMB. Commenters are strongly encouraged to provide concise, comprehensive comments to be most useful to the work of the SOCPC. In addition, commenters are encouraged to conduct the following activities to better inform their comments:

1. Carefully review the information provided in the Federal Register Notice as well as the information provided in the remainder of this document.

2. Carefully review the Classification Principles and Coding Guidelines, as these guide the SOCPC's recommendations. Comments that reflect these Principles and Guidelines are likely to be more pertinent to the SOCPC's deliberations.

3. Carefully review the elements of an SOC detailed occupation as described in this document. Figure 1 and the accompanying text in in the “Revising the Standard Occupational Classification” document describe the elements of a detailed SOC occupation.

4. Review the “Desired Focus of Comments” section in the Federal Register Notice and provide the specific information requested. Provide information on the nature of the work performed, including specific activities and tasks. This is the most important type of information for new occupations. Providing links to research or citations to other helpful reference information is also useful.

5. Prepare well-organized and concise comments. The SOCPC expects to receive hundreds of comments.

6. The SOC was designed solely for statistical purposes. Although there are various uses of the SOC for nonstatistical purposes (e.g., for administrative, regulatory, or taxation functions), the requirements of government agencies or private users choosing to use the SOC for nonstatistical purposes play no role in the development of the SOC. As a result, the SOCPC will review comments and develop its recommendations based on established Classification Principles and Coding Guidelines. Information provided unrelated to the accurate gathering of information for statistical purposes, such as perceived importance of workers in an occupation, will not influence the SOCPC recommendations. Comments will be grouped together based on similar topics for consideration. The SOCPC will consider the substance of the comments; the volume of comments on the same topic will not impact the SOCPC recommendation.

Desired Focus of Comments

OMB welcomes comments from the public on any aspects of the SOC, including in particular those articulated above. To be most useful to the SOCPC in its ongoing review of the SOC and to better inform its proposed recommendations for changes to the SOC, commenters should review the information above and available in the document entitled “Revising the Standard Occupational Classification” (available at https://www.bls.gov/soc/revising_the_standard_occupational_classification_2028.pdf) before developing and submitting comments. Commenters should be concise and should include citations if summarizing or depending on published work, and should provide any links to related research. In order to provide as useful a comment as possible, commenters can review the SOC website at https://www.bls.gov/soc for more information on how to develop a concise, comprehensive comment. In addition, comments recommending a specific addition, deletion, or other concrete change to a category should clearly address the following information. Addressing all aspects below is especially important for the proposals for new or split out detailed occupations.

1. Proposed occupation title: Provide a proposed occupational title, or titles, that all workers in the occupation may be identified by, regardless of their individual job title. For example, a job title like `Public Defender' would fall into the occupation title `Lawyers.' See more information above about the difference between jobs and occupations for the purposes of the SOC.

2. Description of the nature of the work performed: Providing a description that addresses the nature of the work performed by the proposed occupation helps the SOCPC adequately assess the proposed occupation against the Classification Principles and Coding Guidelines. Some questions to address include the following:

• What duties do all the workers in the occupation perform? Duties performed by all workers would appear in the “required duties” statement in the occupation definition.

• What duties are frequent but not performed by all workers in the occupation? Frequent duties that are not performed by all workers might be included in the “may” statements of the occupation definition.

• Do the workers have supervisory or management duties? If so, what types of workers are supervised and what types of management activities are performed?

• For revisions to existing occupations, is the work described in the SOC definition accurate and up-to-date?

3. Description of the relationship to other SOC occupations: Providing a description of the relationship of the proposed occupation to other SOC occupations helps the SOCPC determine the appropriateness of recommending a new occupation versus assessing other SOC occupations for revision. Some questions to address include the following:

• What makes the occupation distinct from other detailed occupations in the SOC?

• Does the same or similar work appear in other SOC occupations? If so, how is the proposed occupation distinct? Occupations that are similar are included in the “excludes” statements of the occupation definition.

• What changes should be made to existing SOC occupations that have the same or similar work?

4. Job titles: Provide known job titles used across the proposed occupation. This information helps inform additional research undertaken by the SOCPC, as well as their recommendations to update accompanying products such as the Direct Match Title File. Some questions to address include the following:

• What job titles are commonly used by workers in this occupation? Are these titles unique to the proposed occupation?

• Are titles listed in the Direct Match Title File actually in use?

• Are there other titles commonly used by workers in the occupation?

• Do titles vary geographically (urban versus rural, southern versus west coast, etc.)?

5. Indications of the number of jobs or workers in the proposed occupation: Employment size and expected growth are helpful to the SOCPC in evaluating collectability and reportability. Please provide references for the sources of this information including links, attachments, or other citations.

6. Types of employers: Understanding the types of employers of the proposed occupation helps clarify the nature of the work performed and assists the SOCPC in its evaluation of collectability and reportability. In particular, in which industries does this occupation occur?

7. Education and training: While education and training are not used for all occupation classification, the SOCPC uses such information, when helpful, to better understand the proposed occupation. Thus, identification of specific education requirements, training programs, and institutions may be helpful. Some questions to address include the following:

• What education and training are typically required for workers to be able to perform this proposed occupation?

• What types of schools or training providers offer this education or training?

• How long does the education or training take?

• What degrees or other credentials are generally required, if any?

8. Licensing: While licensing is not used for all occupation classification, the SOCPC uses such information, when helpful, to better understand the proposed occupation. Thus, identification of specific licensing requirements and licensing agencies may be helpful.

9. Tools and technologies: The SOCPC uses information on tools and technologies, when helpful, to better understand the proposed occupation. Some questions to address include the following:

• What tools and technologies are generally used by workers in performing the occupation?

• Are the tools and technologies mentioned in existing SOC occupation definitions accurate and up-to-date?

10. Professional trade associations and unions: The SOCPC uses information on professional trade associations and unions, when helpful, to better understand the proposed occupation. Some questions to address include the following:

• Are there professional or trade associations or labor unions related to the proposed occupation?

• What are the names of the specific associations or unions?

11. STEM categories: Comments on the domains, subdomains, and types of STEM groupings are welcome, as well as comments regarding changes to the content of the categories.

Timing for the 2028 SOC Revision Process

Following this public comment period, the SOCPC will review the comments and develop proposed revisions for the 2028 SOC. Then OMB will publish SOCPC's proposed revisions for public comment in a subsequent Federal Register Notice. The SOCPC will then review the comments and develop final recommendations to the Chief Statistician of the United States at OMB on the proposed revisions for the 2028 SOC. OMB expects to consider the final recommendations from the SOCPC and finalize the final 2028 SOC in calendar year 2027. After the 2028 SOC is finalized, the SOCPC will prepare the online 2028 SOC Manual and supporting materials, make them available to the public on the BLS website, and continue its role of maintaining the SOC leading up to the next revision.

Richard L. Revesz,
Administrator, Office of Information and Regulatory Affairs.

[FR Doc. 2024-12825 Filed 6-11-24; 8:45 am]

BILLING CODE 3110-01-P